DEPARTMENT OF LABOR

Employment and Training Administration

[TA-W-63,410]

Comau, Inc., Warren, Michigan; Notice of Revised Determination on Reconsideration

By application of June 25, 2008, a petitioner requested administrative reconsideration of the Department's negative determination regarding eligibility for workers and former workers of the subject firm to apply for Trade Adjustment Assistance (TAA).

The previous investigation resulted in a negative determination signed on May 23, 2008, was based on the finding that during the relevant time period, the subject company did not separate or threaten to separate a significant number or proportion of workers, as required by Section 222 of the Trade Act of 1974. The denial notice was published in the Federal Register on June 3, 2008 (73 FR 31716).

In the request for reconsideration, the petitioner stated that even though employment at the subject facility had appeared to be increasing, the subject firm separated a significant amount of workers in the relevant period.

A company official was contacted to verify whether there were separations at the subject facility since May 2007. The company official stated that total employment at Comau, Inc., Warren, Michigan increased from May, 2008 over the corresponding May, 2007. However, the official also clarified that Comau, Inc. transferred several divisions from other Comau facilities to the subject firm during July and August 2007. The official further stated that a significant number of employees have been separated from the subject facility since the transfer and there was a threat of further separations in May 2008.

The investigation revealed that workers of the subject facility are engaged in engineering, project management, and financial functions. The company official stated that workers of the subject facility were in direct support of production at Comau, Inc., Novi, Michigan (TA-W-63,751), Comau Plymouth Engineering, Plymouth, Michigan (TA-W-63,446), Comau, Inc., Macomb Township, Michigan (TA-W-63,430), and Comau, Inc., Southfield, Michigan, (TA-W-61,580) during the relevant period. The above mentioned production facilities were certified eligible for adjustment assistance.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that increases of imports of articles like or directly competitive with articles produced by Comau, Inc. contributed importantly to the total or partial separation of workers at the subject firm and to the decline in sales or production at that firm or subdivision. In accordance with the provisions of the Act, I make the following certification:

“Workers of Comau, Inc., Warren, Michigan, who became totally or partially separated from employment on or after May 19, 2007, through two years from the date of this certification, are eligible to apply for adjustment assistance under Section 223 of the Trade Act of 1974, and are eligible to apply for alternative trade adjustment assistance under Section 246 of the Trade Act of 1974.”

Signed at Washington, DC, this 15th day of September 2008.
Elliott S. Kushner,
Certifying Officer, Division of Trade Adjustment Assistance.

[FR Doc. E8-22127 Filed 9-22-08; 8:45 am]

BILLING CODE 4510-FN-P